DEPARTMENT OF VETERANS AFFAIRS

[OMB Control No. 2900-NEW]

Proposed Information Collection (Open Burn Pit Registry Airborne Hazard Self-Assessment Questionnaire) Activity: Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed to ascertain and monitor the health effects of the exposure of members of the Armed Forces to toxic airborne chemicals and fumes caused by open burn pits.

DATES: Written comments and recommendations on the proposed collection of information should be received on or before August 5, 2013.

ADDRESSES: Submit written comments on the collection of information through the Federal Docket Management System (FDMS) at www.Regulations.gov; or to Cynthia Harvey-Pryor, Veterans Health Administration (10B4), Department of Veterans Affairs, 810 Vermont Avenue NW., Washington, DC 20420 or email: cynthia.harvey-pryor@va.gov. Please refer to “OMB Control No. 2900-NEW, Open Burn Pit Registry Airborne Hazard Self-Assessment Questionnaire,” in any correspondence. During the comment period, comments may be viewed online through FDMS.

FOR FURTHER INFORMATION CONTACT: Cynthia Harvey-Pryor at (202) 461-5870 or Fax (202) 495-5397.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Open Burn Pit Registry Airborne Hazard Self-Assessment Questionnaire, VA Form 10-10066.

OMB Control Number: 2900-NEW.

Type of Review: New data collection.

Abstract: Web-based data will be collected to provide outreach and quality health services to Open Burn Pit Registry participants and improve VA's ability to understand the health effects of exposure. Participant health concerns, demographics, deployment information, environmental monitoring data, self-reported exposures, health status, and health care utilization will be monitored of over time through routine and adhoc analysis to improve health care programs and develop hypotheses for health effects exposure.

Affected Public: Individuals or households.

Estimated Annual Burden: 25,000.

Estimated Average Burden per Respondent: 30 minutes.

Frequency of Response: Once.

Estimated Number of Respondents: 50,000.

Dated: May 30, 2013.
By direction of the Secretary.
Crystal Rennie,
Clearance Officer, Enterprise Records Service, Office of Information and Technology, Department of Veterans Affairs.

[FR Doc. 2013-13224 Filed 6-4-13; 8:45 am]

BILLING CODE 8320-01-P